EQUAL EMPLOYMENT OPPORTUNITY COMMISSION

Agency Information Collection Activities; Announcement of OMB Approval

AGENCY: Equal Employment Opportunity Commission.

ACTION: Notice of OMB Approval; ADEA waivers.

SUMMARY: The Equal Employment Opportunity Commission (Commission or EEOC) announces that a collection of information entitled Waivers of Rights and Claims Under the ADEA; Informational Requirements, has been approved by the Office of Management and Budget (OMB) under the Paperwork Reduction Act of 1995.

FOR FURTHER INFORMATION CONTACT: Carol R. Miaskoff, Assistant Legal Counsel, Office of Legal Counsel, at (202) 663-4689 or TTY (202) 663-7026. This notice is also available in the following formats: large print, braille, audio tape and electronic file on computer disk. Requests for this notice in an alternative format should be made to the Publications Center at 1-800-669-3362.

SUPPLEMENTARY INFORMATION: In the Federal Register of July 24, 2003, the Commission announced that the proposed information collection had been submitted to OMB for review and clearance under the Paperwork Reduction Act of 1995. 68 FR 43725, July 24, 2003. An agency may not conduct or sponsor, and a person is not required to respond to, a collection of information unless it displays a currently valid OMB control number. OMB has now approved the information collection and has assigned OMB control number 3046-0042. The approval expires on October 31, 2006.

For the Commission.
Dated: December 29, 2003.
Cari M. Dominguez,
Chair.

[FR Doc. 04-691 Filed 1-12-04; 8:45 am]

BILLING CODE 6570-01-P